DEPARTMENT OF JUSTICE

Civil Division; Agency Information Collection Activities: Proposed Collection; Comments Requested

ACTION: 30-Day notice of Information Collection Under Review: Extension of a Currently Approved Collection; Annuity Broker Qualification Declaration Form.

The Department of Justice (DOJ), Civil Division has submitted the following information collection request to the Office of Management and Budget (OMB) for review and approval in accordance with the Paperwork Reduction Act of 1995. The proposed information collection is published to obtain comments from the public and affected agencies. This proposed information collection was previously published in the Federal Register Volume 68, Number 49, page 12103 on March 13, 2003, allowing for a 60 day comment period.

The purpose of this notice is to allow for an additional 30 days for public comment until August 4, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503, facsimile (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Annuity Broker Qualification Declaration Form.

(3) Agency form number, if any, and the applicable component of the department sponsoring the collection: Form Number: none. Civil Division, Torts Branch, Department of Justice.

(4) Affected public who will be asked or required to respond, as well as a brief abstract: Primary: Annuity Brokers. Other: None. The information collection requirement contained in this rule will be used to determine whether a broker meets the minimum qualifications to be listed as an annuity broker pursuant to section 11015(b) of Public Law 107-273.

(5) An estimate of the total number of respondents and the amount of time estimated for an average respondent to repond/reply: It is estimated that 400 respondents will complete the application in approximately 1 hour per response.

(6) An estimate of the total public burden (in hours) associated with the collection: The estimated total public burden associated with this application is 400 hours.

If additional information is required contact: Mrs. Brenda E. Dyer, Deputy Clearance Officer, United States Department of Justice, Information Management and Security Staff, Justice Management Division, Suite 1600, Patrick Henry Building, 601 D Street NW., Washington, DC 20503.

Dated: May 30, 2003.
Brenda E. Dyer,
Deputy Clearance Officer, United States Department of Justice.

[FR Doc. 03-14119 Filed 6-4-03; 8:45 am]

BILLING CODE 4410-12-M